NUCLEAR REGULATORY COMMISSION

Advisory Committee on Nuclear Waste; Notice of Meeting

The Advisory Committee on Nuclear Waste (ACNW) will hold its 154th meeting on October 19-21, 2004, Room T-2B3, 11545 Rockville Pike, Rockville, Maryland. The Working Group Meeting scheduled for October 19, 2004 will be held in the NRC Auditorium.

The Working Group Chairman will state the Working Group Meeting (WGM) objectives and provide a technical session overview. Invited experts will also be introduced at this time. The purposes of the WGM are: (1) To develop the information necessary to provide a letter report to the Commission; (2) to understand the technical bases for the draft June 2004 ICRP recommendations; (3) to review these recommendations against current NRC regulations and practice; and (4) to identify aspects of the ICRP recommendations that may warrant further study.

The schedule for this meeting is as follows:

Tuesday, October 19, 2004—NRC Auditorium

8:30 a.m.-8:40 a.m.: Opening Statement (Open)—The ACNW Chairman will open the meeting with brief opening remarks.

8:40 a.m.-9:10 a.m.: NRC Staff Overview of June 2004 ICRP Recommendations (Open)—The Committee will hear a presentation and a hold discussion with a representative of the NRC staff regarding an overview of the June 2004 draft ICRP recommendations.

9:10 a.m.-10 a.m.: Biological Aspects of Radiation Protection (Open)—The Committee will hear a presentation and hold a discussion with an expert familiar with the radiation biology foundations of the ICRP recommendations. The emphasis of this presentation is on the extension of previous knowledge based on ongoing studies of radiation exposure cohorts.

10:15 a.m.-11:15 a.m.: Update on ICRP Recommendations regarding Quantities Used in Radiation Protection (Open)—The Committee will hear a presentation and hold a discussion with a representative of ORNL regarding radiation and tissue weighting factors and applications of factors for external exposure. The focus of this presentation will be on the new values derived and what has changed significantly since 1990.

11:15 a.m.-11:45 a.m.: Public Comments (Open)—Attendees to be provided an opportunity to make comments relevant to the purposes and objectives of the Working Group.

1 p.m.-3:30 p.m.: Individual Protection (Selection of Constraints) (Open)—The Committee will hear presentations and hold discussions with the panel of representatives from the NRC staff, EPA, CRCPD and the Mayo Clinic focused on the draft ICRP recommendations regarding limits and constraints. This technical session will focus on selection of constraints and limits and how such selections have been implemented and developed in the radiation protection practices in the United States. The thrust of this panel will be a discussion as to whether the 2004 draft recommendations imply significant change.

3 p.m.-3:30 p.m.: Public Comments (Open)—Attendees to be provided an opportunity to make relevant comments consistent with the purposes and objectives of the Working Group.

3:45 p.m.-5 p.m.: Optimization of Protection (Open)—The Committee will hear presentations and hold discussions with a representative of the NRC staff and a member of the ACRS regarding the optimization of protection in the June 2004 draft ICRP recommendations and how these principles are related to the current practices of ALARA in NRC regulated activities.

5 p.m.-5:30 p.m.: Public Comments (Open)—Attendees to be provided an opportunity to make comments relevant to the purposes and objectives of the Working Group.

5:30 p.m.-5:45 p.m.: Closing Comments (Open)—The Working Group Chairman will summarize the results of the Working Group and discuss possible follow-up activities.

Wednesday, October 20, 2004

10 a.m.-10:05 a.m.: Opening Statement (Open)—The ACNW Chairman will make opening remarks regarding the conduct of today's sessions.

10:05 a.m.-11:30 a.m.: Update on the Status of the License Termination Rule (LTR) (Open)—The Committee will receive an update by a representative of the NRC staff on the status of activities involving the LTR.

1 p.m.-2:30 p.m.: Consolidated Issue Resolution Status Report (Open)—The Committee will receive an update from a representative of the NRC staff on the current status of the Consolidated Issue Resolution Status Report.

2:30 p.m.-4:30 p.m.: ACNW 2005 Action Plan (Open)—The ACNW Committee will continue its discussion of potential topics for inclusion in the 2005 Action Plan.

Thursday, October 21, 2004

8:30 a.m.-8:35 a.m.: Opening Remarks by the ACNW Chairman (Open)—The Chairman will make opening remarks regarding the conduct of today's sessions.

8:35 a.m.-11:45 a.m.: Preparation of ACNW Reports (Open)—The Committee will discuss potential ACNW reports on matters discussed during this meeting. It may also discuss possible reports on matters discussed during prior meetings.

11:45 a.m.-12 Noon: Miscellaneous (Open)—The Committee will discuss matters related to the conduct of Committee activities and matters and specific issues that were not completed during previous meetings, as time and availability of information permit.

Procedures for the conduct of and participation in ACNW meetings were published in the Federal Register on October 16, 2003 (68 FR 59643). In accordance with these procedures, oral or written statements may be presented by members of the public. Electronic recordings will be permitted only during those portions of the meeting that are open to the public. Persons desiring to make oral statements should notify Mr. Howard J. Larson, (Telephone 301-415-6805), between 7:30 a.m. and 4 p.m. e.t., as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Howard J. Larson as to their particular needs.

Further information regarding topics to be discussed, whether the meeting has been canceled or rescheduled, the Chairman's ruling on requests for the opportunity to present oral statements and the time allotted, therefore can be obtained by contacting Mr. Howard J. Larson.

ACNW meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/(ACRS & ACNW Mtg schedules/agendas).

Video Teleconferencing service is available for observing open sessions of ACNW meetings. Those wishing to use this service for observing ACNW meetings should contact Mr. Theron Brown, ACNW Audiovisual Technician (301-415-8066), between 7:30 a.m. and 3:45 p.m. e.t., at least 10 days before the meeting to ensure the availability of this service. Individuals or organizations requesting this service will be responsible for telephone line charges and for providing the equipment and facilities that they use to establish the video teleconferencing link. The availability of video teleconferencing services is not guaranteed.

Dated: October 12, 2004.
Andrew L. Bates,
Advisory Committee Management Officer.

[FR Doc. 04-23235 Filed 10-15-04; 8:45 am]

BILLING CODE 7590-01-P